DEPARTMENT OF AGRICULTURE

Forest Service

Deschutes Provincial Advisory Committee (DPAC); Notice of Meeting

AGENCY: Forest Service, USDA.

ACTION: Notice of meeting.

SUMMARY: The Deschutes Provincial Advisory Committee will meet on February 27, 2006 starting at 8 a.m. in the DeArmond Room of the Deschutes Services building on 1300 Wall Street, Bend, Oregon. Agenda items will include Pac Status and Rechartering, Biomass and Utilization News, Travel Management Rule, Survey and Manage, Update on Current Litigation and Court Rulings, FERC Licensing, Administrative Site Activity, and Invasive Plant Management. The remainder of the day will include info sharing and a Public Forum from 2 p.m. till 2:30 p.m. All Deschutes Province Advisory Committee Meetings are open to the public.

FOR FURTHER INFORMATION CONTACT: Chris Mickle, Province Liaison, Deschutes NF, Crescent RD, P.O. Box 208, Crescent, OR 97754, Phone (541) 433-3216.

Cecilia R. Seesholtz,
Deputy Forest Supervisor.

[FR Doc. 06-1297 Filed 2-10-06; 8:45 am]

BILLING CODE 3410-11-M